ENVIRONMENTAL PROTECTION AGENCY

[ER-FRL9003-8]

Environmental Impacts Statements; Notice of Availability

Responsible Agency: Office of Federal Activities, General Information (202) 564-7146 or http://www.epa.gov/compliance/nepa/.

Weekly receipt of Environmental Impact Statements

Filed 06/25/2012 Through 06/29/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: EPA is seeking agencies to participate in its e-NEPA electronic EIS submission pilot. Participating agencies can fulfill all requirements for EIS filing, eliminating the need to submit paper copies to EPA Headquarters, by filing documents online and providing feedback on the process. To participate in the pilot, register at: https://cdx.epa.gov.

EIS No. 20120212, Draft EIS, BLM, NM, Rio Puerco Resource Management Plan, Implementation, Cibola, McKinney, Sandoval, Torrance, and Valencia Counties, NM, Comment Period Ends: 10/03/2012, Contact: Angel Martinez 505-761-8918.

EIS No. 20120213, Draft EIS, FRA, IL, Chicago to St. Louis High Speed Rail Program Tier 1, Improvements, Several Counties in IL and St. Louis County, MO, Comment Period Ends: 08/20/2012, Contact: Andrea Martin 202-493-6201.

EIS No. 20120214, Draft Supplement, NPS, 00, Yellowstone National Park Draft Winter Use Plan, Addressing the Issue of Oversnow Vehicle Use in the Interior of the Park, Implementation, WY, MT, and ID, Comment Period Ends: 08/20/2012, Contact: David Jacob 303-987-6970.

EIS No. 20120215, Draft Supplement, NRC, NY, Generic—License Renewal of Nuclear Plants, Supplement 38, Regarding Indian Point Nuclear Generating Unit Nos. 2 and 3, New Information, Westchester County, NY, Comment Period Ends: 08/20/2012, Contact: Michael Wentzel 301-415-6459.

EIS No. 20120216, Draft EIS, NOAA, OR, PROGRAMMATIC—Portland Harbor Restoration Plan, Restoration of Injured Natural Resources, Multnomah County, OR, Comment Period Ends: 10/08/2012, Contact: Jeff Shenot 301-427-8689.

EIS No. 20120217, Final EIS, BOEM, 00, Gulf of Mexico Outer Continental Shelf (OCS) Oil and Gas Lease Sales: 2012-2017 Western Planning Area Lease Sales 229, 233, 238, 246, and 248: Central Planning Area Lease Sales 227, 231, 235, 241, and 247, TX, LA, MS, AL and Northwestern FL, Review Period Ends: 08/06/2012, Contact: Gary Goeke 504-736-3233.

EIS No. 20120218, Final EIS, FRA, NY, ADOPTION—East Side Access Project, Transportation Improvements, To Provide Railroad Rehabilitation and Improvement Financing Program, New York, Queens, Bronx, Nassau, and Suffolk Counties, NY, Review Period Ends: 08/06/2012, Contact: Michelle Fishburne 202-493-0398. The U.S. Department of Transportation's Federal Railroad Administration (FRA) has adopted the Federal Transit Administration's FEIS filed 3-9-2001. FRA was not a Cooperating Agency for the above final EIS. Recirculation of the document is necessary under Section 506.3(b) of the Council on Environmental Quality Regulations.

EIS No. 20120219, Final EIS, USFS, NM, Santa Fe National Forest Travel Management, Proposes to Provide for a System of Road, Trails, and Areas Designated for Motorized Use, Santa Fe, NM, Review Period Ends: 08/06/2012, Contact: Julie Bain 505-438-5443.

EIS No. 20120220, Final EIS, BLM, NV, Hycroft Mine Expansion Project, Proposes to Expand Mining Activities on BLM Managed Public Land and Private Land, Approval, Humboldt and Pershing Counties, NV, Review Period Ends: 08/06/2012, Contact: Kathleen Rehberg 775-623-1739.

EIS No. 20120221, Draft EIS, USACE, CA, Mather Specific Plan Project, Development of Large Scale Mixed Use Development to Promote Economic and Wetland Conservation Opportunities, Sacramento County, CA, Comment Period Ends: 08/20/2012, Contact: Kathleen Dadey 916-557-5250.

EIS No. 20120222, Final EIS, BOEM, 00, PROGRAMMATIC EIS—Outer Continental Shelf Oil and Gas Leasing Program—2012-2017 in Six Planning Area, Western, Central and Eastern Gulf of Mexico, Cook Inlet, the Beaufort Sea, and the Chukchi Sea, Review Period Ends: 08/06/2012, Contact: James F. Bennett 703-787-1660.

Amended Notices

EIS No. 20050514, Final EIS, NIH, ME, National Emerging Infectious Diseases Laboratories, Construction of National Biocontainment Laboratory, BioSquare Research Park, Boston University Medical Center Campus, Boston, MA, Review Period Ends: 01/09/2006, Contact: Valerie Nottingham 301-496-7775.

In Support of this Final ESI, NIH is publishing a Final Supplementary Risk Assessment for the Boston University National Emerging Infectious Diseases Laboratories (NEIDL). The wait period will end on 08/06/2012; for more information, please visit http://nihblueribbonpanel-bumc-neidl.od.nih.gov/default.asp.

EIS No. 20100269, Final EIS, USAF, ND, ADOPTION—Grand Forks Air Force Base Project, Beddown and Flight Operations of Remotely Piloted Aircraft, Base Realignment and Closure (BRAC), ND, Contact: Doug Allbright 618-229-0841.

ADOPTION —The U.S. Department of Transportation's Federal Aviation Administration adopted partial of the U.S. Air Force's Final EIS filed with EPA. The FAA was a cooperating Agency on the USAF's EIS therefore, distribution was not necessary for this adoption and there is no comment period.

EIS No. 20120207, Final EIS, USACE, LA, WITHDRAWN—Mississippi River Gulf Outlet Ecosystem Restoration, To Develop a Comprehensive Ecosystem Restoration Plan to Restore the Lake Borgne Ecosystems, LA and MS, Review Period Ends: 07/30/2012, Contact: Tammy Gilmore 504-862-1002 Revision to FR Notice Published on 06/29/2012: Officially Withdrawn by the USACE.

Dated: July 2, 2012.
Cliff Rader,
Director, NEPA Compliance Division, Office of Federal Activities.

[FR Doc. 2012-16576 Filed 7-5-12; 8:45 am]

BILLING CODE 6560-50-P